TENNESSEE VALLEY AUTHORITY

Environmental Impact Statement—Multiple Reservoirs Land Management Plans

AGENCY: Tennessee Valley Authority.

ACTION: Notice of intent.

SUMMARY: The Tennessee Valley Authority (TVA) intends to prepare an environmental impact statement (EIS) addressing the impacts of alternative plans for managing public lands on eight TVA reservoirs in Alabama, Kentucky and Tennessee: Chickamauga, Fort Loudoun, Great Falls, Kentucky, Nickajack, Normandy, Wheeler and Wilson. TVA also proposes to use the information included in these eight reservoir land management plans (RLMP) to revise its Comprehensive Valleywide Land Plan. Public comment is invited concerning the scope of the EIS, including the appropriate uses for TVA-managed public lands on these reservoirs and environmental issues that should be addressed as a part of this EIS.

DATES: Comments must be received on or before April 4, 2016.

ADDRESSES: Written comments should be sent to Matthew Higdon, Tennessee Valley Authority, 400 West Summit Hill Drive (WT11D), Knoxville, Tennessee 37902. Comments may also be emailed to mshigdon@tva.gov or submitted on the TVA Web site at: https://www.tva.com/Environment/Environmental-Stewardship/Environmental-Reviews.

FOR FURTHER INFORMATION CONTACT: For information on the EIS process, contact Matthew Higdon, NEPA Specialist, by email at mshigdon@tva.gov, or by phone at (865) 632-8051. For information about the reservoir land plans, contact Heather Montgomery by email at hlmcgee@tva.gov or by phone at (256) 386-3803.

SUPPLEMENTARY INFORMATION: This notice is provided in accordance with the Council on Environmental Quality's regulations (40 CFR parts 1500 to 1508) and TVA's procedures for implementing the National Environmental Policy Act (NEPA), and Section 106 of the National Historic Preservation Act and its implementing regulations (36 CFR part 800).

TVA is a corporate agency and instrumentality of the United States, established by an act of Congress in 1933, to foster the social and economic welfare of the people of the Tennessee Valley region and to promote the proper use and conservation of the region's natural resources. Shortly after its creation, TVA began a dam and reservoir construction program that required the purchase of approximately 1.3 million acres of land for the creation of 46 reservoirs within the Tennessee Valley region. Most of these lands are located underneath the water of the reservoir system or have since been sold by TVA or transferred to other state or federal agencies. Today, approximately 293,000 acres of land along TVA reservoirs are managed by TVA for the benefit of the public.

Reservoir Land Management Plans

TVA's eight RLMPs will address management of approximately 138,222 acres of TVA-managed public lands surrounding the following reservoirs: Chickamauga, Fort Loudon, Great Falls, Nickajack and Normandy in Tennessee; Wheeler and Wilson in Alabama; and Kentucky in Tennessee and Kentucky. In the EIS, TVA will consider the potential environmental impacts of the eight RLMPs and the allocation of reservoir parcels to one of seven land use zones: Non-TVA Shoreland, Project Operations, Sensitive Resource Management, Natural Resource Conservation, Industrial, Developed Recreation and Shoreline Access. These allocations will then be used to guide the types of activities that will be considered on each parcel of land. Proposed allocations will take into account past land use allocations, current land uses, existing land rights (easements, leases, etc.), public needs, the presence of sensitive environmental resources, and TVA policies. The RLMPs and parcel allocations would establish clear blueprints for future management of the public land TVA manages on these reservoirs.

TVA has developed a proposed RLMP for each reservoir and made initial land use zone allocations for each reservoir parcel. These proposed RLMPs are the result of TVA's initial review of the suitable uses of parcels at each reservoir and will be considered as an Action Alternative in the EIS. TVA invites the public to review the proposed plans and parcel allocations on the TVA Web site during the scoping period and to submit comments, questions or suggestions on its proposal. Additional Action Alternative(s) may be developed based on public input submitted to TVA during the scoping period. If multiple Action Alternatives are considered, the primary difference between alternatives would be the amount of land allocated to each of these zones. Typically, lands currently committed to a specific use would be allocated in the RLMP to that current use; however, changes that support TVA goals and objectives will be considered. Committed lands include those subject to existing long-term easements, leases, licenses and contracts; lands with outstanding land rights; and lands that are necessary for TVA project operations.

In the EIS, TVA will also consider a No Action alternative, under which TVA would continue to rely on previous land planning designations or current management of parcels. Of the eight reservoirs, seven have land use plans that were developed using different methodology and land use categories. Two reservoirs (Fort Loudoun and Normandy) were planned using TVA's Forecast System in the 1960s or 1970s; four reservoirs (Chickamauga, Kentucky, Nickajack, and Wheeler) were planned in the 1980s and 1990s under the Multiple-Use Tract Allocation Methodology. A land plan has never been developed for Great Falls Reservoir, and only a portion of Wilson Reservoir has been planned previously. TVA will apply the single-use allocation methodology in developing new RLMPs for the eight reservoirs. Once completed, all TVA land plans will be based on the same methodology, ensuring that future management policies can be consistently applied across the region, as intended under TVA's 2011 Natural Resource Plan.

Comprehensive Valleywide Land Plan

In its Natural Resource Plan, TVA established a Comprehensive Valleywide Land Plan (CVLP) to guide uses of the 293,000 acres of TVA-managed property on 46 reservoirs. The CVLP identifies target ranges for different types of land use allocations for the region. When establishing the CVLP in 2011, TVA based these ranges on parcel allocations from existing plans as well as “rapid assessments,” which were initial allocation designations of reservoir parcels conducted in order to establish an initial CVLP target range. Since 2011, TVA has conducted more thorough assessments of parcels on the eight reservoirs and found in many cases that the initial allocations do not accurately reflect actual uses of parcels, the presence of sensitive resources, or existing land rights or restrictions for parcels. Incorporating these corrections into the proposed RLMPs would necessitate minor revisions to the CVLP target ranges. Therefore, as part of this planning effort, TVA proposes to revise the CVLP ranges accordingly to the zone allocations proposed in the Action Alternative(s). The proposed revisions to the CVLP target ranges do not reflect a change to any other decisions made by TVA in its Natural Resource Plan. TVA remains committed to implementing its Natural Resource Plan and meeting the goals and objectives of the CVLP.

In addition to the Natural Resource Plan, this planning process is necessary to comply with TVA's Land Policy (2006), which governs the planning, retention and disposal of land under TVA's stewardship. The reservoir land planning process provides a consistent method of evaluating suitable uses of TVA public land in a manner that systematically incorporates information, analyses, and input from the public, stakeholders, partners and TVA specialists, and protects significant resources (including threatened and endangered species, cultural resources, wetlands, unique habitats, natural areas, water quality and the visual character of the reservoir). This planning effort is also consistent with TVA's Shoreline Management Initiative (SMI). The EIS will tier from the Final EIS for the SMI (1998), which evaluated alternative policies for managing residential shoreline development on TVA reservoirs. Residential shoreline properties occur on the eight reservoirs, and the proposed RLMPs will not affect the policies for their management.

Scoping Process

Public scoping is integral to the process for implementing NEPA and ensures that issues are identified early and properly studied; issues of little significance do not consume substantial time and effort; and analysis is thorough and balanced. TVA's NEPA procedures require that the scoping process commence soon after a decision has been reached to prepare an EIS to ensure an early and open process for determining the scope and for identifying the significant issues related to a proposed action. TVA anticipates that the major issues addressed in the EIS include water quality, water supply, aquatic and terrestrial ecology, endangered and threatened species, wetlands, prime farmlands, floodplains, recreation, aesthetics including visual resources, land use, historic and archaeological resources and socioeconomic resources.

TVA invites members of the public as well as Federal, state, and local agencies and Native American tribes to comment on the scope of the EIS. Comments on the scope should be submitted no later than the date given under the DATES section of this notice. Pursuant to the regulations of the Advisory Council on Historic Preservation implementing Section 106 of the NHPA, TVA also solicits comments on the potential of the proposed Plan to affect historic properties. This notice also provides an opportunity under Executive Orders 11990 and 11988 for early public review of the potential for TVA's Plan to affect wetlands and floodplains, respectively. Please note, any comments received, including names and addresses, will become part of the administrative record and will be available for public inspection.

After consideration of the public's input and analyzing the environmental consequences of each alternative, TVA will issue a draft EIS for public review and comment. TVA will notify the public of the draft EIS' availability and plans to hold public meetings during the review period. TVA expects to release the draft EIS and associated RLMPs in late 2016 and the final EIS and RLMPs in 2017. Once the NEPA review is completed, the final RLMPs and revised CVLP allocations will be submitted to the TVA Board of Directors for approval and adopted as guidelines for management of TVA public land consistent with the agency's responsibilities under the TVA Act of 1933.

Authority: 40 CFR 1501.7.

Wilbourne (Skip) C. Markham,
Director, Environmental Permitting and Compliance.

[FR Doc. 2016-04745 Filed 3-2-16; 8:45 am]

BILLING CODE 8120-01-P